FEDERAL MINE SAFETY AND HEALTH REVIEW COMMISSION

[BAC 6735-01]

Sunshine Act Meeting

June 8, 2016.

Time and Date: 10:00 a.m., Thursday, July 14, 2016.

Place: The Richard V. Backley Hearing Room, Room 511N, 1331 Pennsylvania Avenue NW., Washington, DC 20004 (enter from F Street entrance).

Status: Open.

Matters to Be Considered: The Commission will consider and act upon the following in open session: Secretary of Labor v. The American Coal Company, Docket No. LAKE 2011-13 (Issues include whether the Judge erred by denying the Secretary's motion to approve a proposed settlement because the Judge concluded that more information was needed.) Any person attending this meeting who requires special accessibility features and/or auxiliary aids, such as sign language interpreters, must inform the Commission in advance of those needs. Subject to 29 CFR 2706.150(a)(3) and § 2706.160(d).

Contact Person For More Information: Emogene Johnson (202) 434-9935/(202) 708-9300 for TDD Relay/1-800-877-8339 for toll free.

Sarah L. Stewart,
Deputy General Counsel.

[FR Doc. 2016-13880 Filed 6-8-16; 4:15 pm]

BILLING CODE P